ENVIRONMENTAL PROTECTION AGENCY

[OPP-00652A; FRL-6761-8]

First Aid Statements on Pesticide Product Labels, Pesticide Registration Notice; Update to Guidance

AGENCY: Environmental Protection Agency (EPA).

ACTION: Notice.

SUMMARY: This notice announces an update to EPA guidance regarding the format and content of first aid statements on all federally regulated pesticide product labels. This notice addresses what the Agency believes is the appropriate first aid language for pesticide product labels to ensure that they continue to adequately protect the public. This notice supersedes Pesticide Registration Notice 2000-3, published in the Federal Register on April 19, 2000.

FOR FURTHER INFORMATION CONTACT: Amy Breedlove, Field and External Affairs Division (7506C), Policy and Regulatory Services Branch, Office of Pesticide Programs, Environmental Protection Agency, 1200 Pennsylvania Ave., NW., Washington, DC 20460; telephone number: (703) 308-9069; fax number: (703) 305-5884; e-mail address: breedlove.amy@epa.gov.

SUPPLEMENTARY INFORMATION:

I. General Information

A. Does this Action Apply to Me?

This action is directed to the public in general. This action may, however, be of interest to people who are responsible for developing, reviewing, or approving first aid information on pesticide labels. Since other entities may also be interested, the Agency has not attempted to describe all the specific entities that may be affected by this action. If you have any questions regarding the applicability of this action to a particular entity, consult the person listed under FOR FURTHER INFORMATION CONTACT.

B. How Can I Get Additional Information, Including Copies of this Document and Other Related Documents?

1. Electronically. You may obtain electronic copies of this document, and certain other related documents that might be available electronically, from the EPA Internet Home Page at http://www.epa.gov/. To access this document, on the Home Page select “Laws and Regulations,” “Regulations and Proposed Rules,” and then look up the entry for this document under the “Federal Register—Environmental Documents.” You can also go directly to the Federal Register listings at http://www.epa.gov/fedrgstr/. You may also obtain copies of the PR Notice by going directly to the Home Page for the Office of Pesticide Programs at http://www.epa.gov/pesticides. Under “What's New,” select “Draft PR Notices,” then select PR Notice 2000-1 “First Aid Statements on Pesticide Product Labels.”

2. Fax on Demand. You may request a faxed copy of the PR Notice titled “First Aid Statements on Pesticide Product Labels,” by using a faxphone to call (202) 401-0527 and selecting item 6135. You may also follow the automated menu.

3. In person. The Agency has previously established an official record for this action under docket control number OPP-00652. The official record consists of the documents specifically referenced in this action, any public comments received during an applicable comment period, and other information related to this action, including any information claimed as confidential business information (CBI). This official record includes the documents that are physically located in the docket, as well as the documents that are referenced in those documents. The public version of the official record does not include any information claimed as CBI. The public version of the official record, which includes printed, paper versions of any electronic comments submitted during an applicable comment period, is available for inspection in the Public Information and Records Integrity Branch (PIRIB), Rm. 119, Crystal Mall #2, 1921 Jefferson Davis Hwy., Arlington, VA, from 8:30 a.m. to 4 p.m., Monday through Friday, excluding legal holidays. The PIRIB telephone number is (703) 305-5805.

II. What Action is the Agency Taking?

The Agency is publishing guidance for appropriate first aid language for pesticide product labels. The Agency has received updated information for first aid statements and believes current pesticide product labels should be revised to reflect this information. The Agency, as a result of comments submitted in response to an earlier PR notice published in the Federal Register on April 19, 2000 (65 FR 20978) (FRL-6552-2), has extended the deadline until October 1, 2003, for when the Agency expects to see these revised statements and has made other changes to clarify the Agency's intent.

List of Subjects

Environmental protection, Administrative practice and procedure, Agricultural commodities, First aid, Labeling, Pesticides and pests.

Dated: December 28, 2000.
Marcia E. Mulkey
Director, Office of Pesticide Programs.

[FR Doc. 01-1053 Filed 1-16-01; 8:45 am]

BILLING CODE 6560-50-S